DEPARTMENT OF ENERGY

[Docket No. PP-89-1]

Record of Decision and Floodplain Statement of Findings; Bangor Hydro-Electric Company Northeast Reliability Interconnect

AGENCY: Office of Electricity Delivery and Energy Reliability, U.S. Department of Energy (DOE).

ACTION: Record of Decision (ROD) and Floodplain Statement of Findings.

SUMMARY: DOE announces its decision to implement the Proposed Action alternative, identified as DOE's preferred alternative in the Final Environmental Impact Statement for the Bangor Hydro-Electric Company Northeast Reliability Interconnect (DOE/EIS-0372). This alternative is to amend Presidential Permit PP-89 to authorize Bangor Hydro-Electric Company (BHE) to construct, operate, maintain, and connect a single-circuit, 345,000-volt (345-kV) electric transmission line that would originate at BHE's existing Orrington Substation, near Orrington, Maine, extend eastward approximately 85 miles, cross the United States (U.S.)-Canada border near Baileyville, Maine, and continue into New Brunswick, Canada. The proposed transmission line, referred to as the Northeast Reliability Interconnect (NRI), would be constructed along a route identified as the Modified Consolidated Corridors Route in the EIS.

In reaching this decision, DOE considered the low environmental impacts in the U.S. from constructing, operating, and maintaining the NRI, the lack of adverse impacts to the reliability of the U.S. electric power supply system, and the lack of major issues of concern to the public.

This ROD and Floodplain Statement of Findings have been prepared in accordance with the regulations of the Council on Environmental Quality (40 CFR Parts 1500-1508) for implementing the National Environmental Policy Act (NEPA), DOE's NEPA Implementing Procedures (10 CFR Part 1021), and DOE's Compliance with Floodplain and Wetland Environmental Review Requirements (10 CFR part 1022).

ADDRESSES: The Final EIS is available on the DOE NEPA Web site at http://www.eh.doe.gov/nepa/documents.html and on the project Web site at http://web.ead.anl.gov/interconnecteis, and the ROD will be available on both Web sites in the near future. Copies of the Final EIS and this ROD may be requested by contacting Dr. Jerry Pell at the Office of Electricity Delivery and Energy Reliability, U.S. Department of Energy, OE-20, U.S. Department of Energy, 1000 Independence Avenue, SW., Washington, DC 20585, by telephone at 202-586-3362, by facsimile at 202-318-7761, or by electronic mail at Jerry.Pell@hq.doe.gov.

FOR FURTHER INFORMATION CONTACT: For further information on the Bangor Hydro-Electric Company Northeast Reliability Interconnect EIS, contact Dr. Jerry Pell as indicated in the ADDRESSES section above. For general information on the DOE NEPA process, contact Carol Borgstrom, Director, Office of NEPA Policy and Compliance, EH-42, at U.S. Department of Energy, 1000 Independence Avenue, SW., Washington, D.C. 20585, by telephone at 202-586-4600, or leave a message at 800-472-2756.

SUPPLEMENTARY INFORMATION: The U.S. Department of the Interior's U.S Fish and Wildlife Service (Service) and the U.S. Department of Commerce's National Oceanic and Atmospheric Administration's National Marine Fisheries Service were cooperating agencies in the preparation of the EIS. Under Section 7 of the Endangered Species Act, DOE has completed consultation with the USFWS regarding impacts on Federally-listed threatened or endangered species in the area of the proposed project.

Background

Executive Order (E.O.) 10485 (September 9, 1953), as amended by E.O. 12038 (February 7, 1978), requires that a Presidential permit be issued by DOE before electric transmission facilities may be constructed, operated, maintained, or connected at the U.S. international border. DOE may issue or amend a permit if it determines that the permit is in the public interest and after obtaining favorable recommendations from the U.S. Departments of State and Defense. In determining whether issuance of a permit for a proposed action is in the public interest, DOE considers the environmental impacts of the proposed project pursuant to NEPA, the project's impact on electric reliability by ascertaining whether the proposed project would adversely affect the operation of the U.S. electric power supply system under normal and contingency conditions, and any other factors that DOE may consider relevant to the public interest.

On December 16, 1988, BHE applied to DOE for a Presidential permit to construct, operate, maintain, and connect a single-circuit, alternating current (AC) 345-kV electric transmission line that would originate at BHE's existing Orrington Substation, located near Orrington, Maine, extend approximately 84 miles eastward, and cross the U.S.-Canada border near Baileyville, Maine. In August 1995, DOE published a Final EIS (DOE/EIS-0166) for the proposed action of granting a Presidential permit to BHE, issued a ROD on January 18, 1996 (61 FR 2244), and, on January 22, 1996, issued Presidential Permit PP-89 to BHE for construction of the proposed transmission line along a route identified as the Stud Mill Road Route in the 1995 EIS.

In 1992, BHE received a permit from the State of Maine for construction of the NRI along the Stud Mill Road Route. The State subsequently granted extensions of its permit in 1994 and 1996. In 2001, BHE applied to the State for a third extension of its permit. During that extension proceeding, the Maine Board of Environmental Protection indicated a preference for a route other than the Stud Mill Road Route, one that would be more closely aligned with existing linear facilities in the area. BHE subsequently withdrew its request for the permit extension and, on May 10, 2005, applied for a new State permit to construct the NRI along a route for which the State had expressed a preference. On October 27, 2005, the State of Maine granted a permit to BHE for construction of the NRI along a route that has become known as the Modified Consolidated Corridors Route.

On September 30, 2003, BHE had applied to DOE to amend Presidential Permit PP-89 to allow for construction of the previously authorized 345-kV transmission line along a route different from the Stud Mill Road Route or from the other alternative routes analyzed in the 1995 EIS. In its present application, BHE has requested authority to construct the NRI along a route referred to as the Modified Consolidated Corridors Route. Like the international transmission line authorized by Presidential Permit PP-89, the NRI also would originate at the Orrington Substation, extend eastward approximately 85 mi (137 km), and cross the U.S.-Canada border near Baileyville, Maine, but would be more closely aligned with existing linear facilities than the originally proposed route. At the U.S-Canada border, the NRI would connect with a transmission line to be constructed, operated, and maintained by New Brunswick Power Corporation (NB Power).

NEPA Review

DOE determined that amending Presidential Permit PP-89 as requested by BHE would constitute a major Federal action that could have a significant impact on the environment within the meaning of NEPA. For this reason, DOE prepared an EIS to address potential environmental impacts from DOE's proposed action of granting the amendment to the Presidential permit and the range of reasonable alternatives. DOE published a notice of intent to prepare an EIS in the Federal Register on November 2, 2004 (68 FR 63514). On August 26, 2005, the U.S. Environmental Protection Agency (EPA) published a notice of availability of the Draft EIS (70 FR 50346), which began a 45-day public comment period that ended on October 11, 2005. In the Draft EIS, DOE identified its proposed action and preferred alternative as amending Presidential Permit PP-89 to allow BHE to construct the NRI along the Modified Consolidated Corridors Route.

All comments received on the Draft EIS were considered in the preparation of the Final EIS. However, because the nature of the comments received required only minor text changes (factual corrections, clarifications) to the Draft EIS, the Final EIS for the proposed DOE action consists of a Comment-Response Addendum together with the Draft EIS (40 CFR 1503.4 (c)). A notice of availability of the Final EIS was published by the EPA in the Federal Register on November 25, 2005 (70 FR 71139).

The Proposed Project

The NRI would extend approximately 85 mi (137 km) eastward from the Orrington Substation near Orrington, Maine, to the U.S.-Canada border near Baileyville, Maine. There the NRI would cross the St. Croix River into New Brunswick, Canada, and connect with a transmission line to be constructed, operated, and maintained by NB Power. The proposed NRI is intended to improve electricity delivery in Maine and the northeast and would increase the north-to-south electric power transfer capacity by 300 megawatts (MW) over the existing capacity of 700 MW. It would also increase the south-to-north power transfer capacity to 400 MW and would reduce overall line losses in the regional transmission system.

The NRI would have a single-circuit configuration and would consist of two overhead shield wires (to protect from lightning strikes) and three phases with two conductors per phase (for a total of 8 wires). Support structures would be self-supporting wood-pole H-frame structures for straight stretches of the line. Angle or dead-end structures would be used where the route of the line turns sharply or ends or where they are needed to prevent cascading in long straight stretches. These types of structures would consist of three wood or three steel poles. The wood pole angle and dead-end structures would require guy wire supports, while the steel pole structures would not. The proposed 85-mile NRI would require a total of 610 support structures with an average span of about 730 ft (223 m) between support structures.

The right-of-way (ROW) width for various segments of the NRI would vary depending on the proximity of the NRI to existing utility ROWs or roads. The total area of the required ROW over the length of the proposed NRI would encompass approximately 1,565 acres (633 ha).

In order to implement the NRI, BHE would need to make alterations to four substations within Maine: The Orrington Substation near Orrington; the Maxcys Substation in Windsor; the Gulf Island Substation in Lewiston; and the Kimball Road Substation in Harrison. Changes made to the Orrington and Kimball Road Substations would require the area of those substations to be expanded by 0.8 acres (0.3 ha) and 0.2 acres (0.1 ha), respectively. Changes to the Maxcys and Gulf Island Substations would be made within the current fence lines.

The general activities that BHE would undertake in constructing the NRI would include surveying; construction or upgrading of access roads, as necessary; ROW clearing; and support structure installation, framing, and stringing. No new permanent access roads would be built.

In areas where the NRI would be located near, parallel to, or across a natural gas transmission pipeline constructed by Maritimes & Northeast, L.L.C. (M&N pipeline), AC mitigation would be installed by M&N to prevent shock hazards or induced currents in the pipeline. This mitigation would consist of the placement of a zinc ribbon in a plowed or excavated trench at a depth of at least 1.5 ft (0.5 m) and located above and parallel to the existing unprotected pipeline, the top of which is at least 3 ft (1 m) below the ground. After installation of the zinc ribbon, the trench would be backfilled. Depending on the alternative route, between 45 mi (72 km) and 68 mi (109 km) of zinc ribbon would be installed by M&N along the pipeline. The zinc ribbon would not be continuous in that it would not be installed within stream crossings.

ROW maintenance would be performed by BHE on a 3- to 4-year cycle and would consist of some of the same activities conducted during initial vegetation clearing in order to maintain a minimum 15-ft (4.6-m) clearance between conductors and vegetation.

Alternatives

DOE analyzed four alternative routes for the NRI in the EIS. These included: (1) The Modified Consolidated Corridors Route (Proposed Action); (2) the Consolidated Corridors Route; (3) the Previously Permitted Route (No Action); and the MEPCO South Route.

Although the “no action” alternative in an EIS usually results in no project being built, in this instance “no action” means that DOE would not amend PP-89 but that the existing permit would remain in effect. This would result in the proposed NRI being constructed along the Previously Permitted Route. In addition, the EIS evaluates the alternative of Rescission of Presidential Permit (PP-89). Under this alternative, the proposed NRI would not be constructed along any route. Together, these alternatives represent the range of reasonable alternatives under NEPA.

The alternative routes originate at the Orrington Substation, are identical for the initial 12.2 mi (19.6 km), and all cross the St. Croix River near Baileyville, Maine. All alternative routes would cross primarily commercial forest land, 100-year floodplains and wetlands, and both perennial and intermittent streams. The Modified Consolidated Corridors, Consolidated Corridors, and Previously Permitted routes would cross the Narraguagus and Machias Rivers; while the MEPCO South Route would cross both the Passadumkeag River and the Penobscot River at two locations. The four alternative routes are described below.

Alternative One—Modified Consolidated Corridors Route: From the Orrington Substation, the Modified Consolidated Corridors Route would parallel the existing 345-kV Maine Electric Power Company (MEPCO) transmission line to Blackman Stream in Bradley. The route would then proceed northeast within a new corridor until meeting Stud Mill Road and the M&N gas pipeline ROW; it would then proceed east-northeast, generally paralleling the M&N gas pipeline and Stud Mill Road to the international border near Baileyville, Maine. The total length of this route would be about 85 mi (137 km) and would consist of 15 mi (24 km) of new ROW, 58 mi (93 km) adjacent to the existing M&N gas pipeline and/or Stud Mill Road, and 12 mi (19 km) adjacent to the existing MEPCO 345-kV transmission line, including portions that are co-located with the M&N gas pipeline and/or other transmission lines.

Alternative Two—Consolidated Corridors Route: This route would be similar to the Modified Consolidated Corridors Route, except for the two deviations in the Modified Consolidated Corridors Route that total about 14 mi (22.5 km). The first and longest route deviation occurs between Blackman Stream and Stud Mill Road near Pickerel Pond, where the Consolidated Corridors Route runs along the southeast edge of the Sunkhaze Meadows National Wildlife Refuge but the Modified Consolidated Corridors Route avoids the Refuge by running further south. The second deviation occurs in the area of Myra Camps, just west of Dead Stream, where the Modified Consolidated Corridors Route passes to the north of Myra Camps whereas the Consolidated Corridors Route passes to the south. After the second deviation, the Consolidated Corridors and the Modified Consolidated Corridors routes would be identical to the international border. The Consolidated Corridors Route would traverse a total of 85 mi (137 km) and would consist of 2 mi (3 km) of new ROW, 68 mi (109 km) adjacent to the M&N gas pipeline and/or Stud Mill Road, and 15 mi (24 km) adjacent to the existing MEPCO 345-kV transmission line, including portions co-located with the M&N gas pipeline and/or other transmission lines.

Alternative Three—Previously Permitted Route: This route, formerly known as the Stud Mill Road Route, would be identical to the Modified Consolidated Corridors Route for the initial 18 mi (30 km) out of the Orrington Substation, and then would proceed east-northeast along a route generally paralleling the M&N gas pipeline and Stud Mill Road, but deviating an average of 2,500 ft (762 m) from the road and crossing it 13 times. After the initial 18 mi (30 km), the Previously Permitted Route would share very little of the Modified Consolidated Corridors Route, but would traverse the same general area, including the same counties and municipalities as the Modified Consolidated Corridors Route. The total length of the Previously Permitted Route would be about 84 mi (135 km) and would consist of 62 mi (100 km) of new ROW, 10 mi (16 km) adjacent to the M&N gas pipeline and/or Stud Mill Road, and 12 mi (19 km) adjacent to the existing MEPCO 345-kV transmission line, including portions co-located with the M&N gas pipeline and/or other transmission lines.

This alternative route is also the No Action alternative. Under the No Action alternative, DOE would deny BHE's request to amend Presidential Permit PP-89 and the existing permit would remain in effect. Because the existing permit authorizes BHE to construct a 345-kV international transmission line only along the Stud Mill Road Route, this is the only alternative that BHE could implement under No Action.

Alternative Four—MEPCO South Route: From the Orrington Substation, this route would parallel the existing 345-kV transmission line to Chester, Maine, roughly 40 mi (64 km) to the north. The MEPCO South Route would then proceed generally eastward to Route 6 east of Lee, Maine. It would then generally parallel, but not be co-located with, Route 6 until just west of Route 1 at Topsfield, Maine. It would then proceed southeast to the border crossing point near Baileyville, Maine. The total length of the MEPCO South Route would be about 114 mi (183 km) and would consist of 39 mi (63 km) of new ROW, 54 mi (87 km) adjacent to the existing MEPCO 345-kV transmission line, including portions co-located with the M&N gas pipeline and/or other transmission lines, and 21 mi (34 km) adjacent to an existing Eastern Maine Electric Cooperative 69-kV transmission line. Except for the initial portion of the route that leaves Orrington Substation, the MEPCO South Route would run substantially to the north and would be longer than the other three alternative routes.

Analysis of Environmental Impacts

The EIS analyzes impacts from the alternatives for each of the following resource areas: air quality, land features (e.g., geology and soils), land use, hydrological resources, ecological resources, cultural resources, socioeconomics, environmental justice considerations, visual resources, health and safety, and cumulative impacts. The impacts of particular concern for the proposed project were ecological resources impacts to wetlands, streams and rivers, wildlife habitat, and endangered species, particularly the bald eagle and Atlantic salmon.

The Rescission of Presidential Permit alternative would result in no new impacts to any of the resource areas from construction, operation, and maintenance of the NRI but would not necessarily result in no environmental impacts. BHE or other entities in the region may seek to undertake other actions that could achieve the intended purpose of the NRI. However, these other possible actions and their resulting environmental impacts are too speculative to be addressed in the EIS.

Impacts identified in the EIS and discussed in this section are based upon implementation by BHE of all mitigation measures named in the EIS (in Section 2.4 and Chapter 4, and in the Wetland and Floodplain Assessment, the Biological Assessment, and the Essential Fish Habitat Assessment contained, respectively, in Appendices E, F, and G of the EIS).

Air Quality: No significant differences in air quality impacts would occur for any of the four route alternatives. Localized, short-term air quality impacts from fugitive dust and vehicular and construction equipment emissions would result from construction. BHE's commitment to construct during winter months, to the extent practicable, would minimize fugitive dust emissions. During operation, corona-produced ozone would be well below ozone standards. A conformity review is not required because none of the four alternative routes would be located within nonattainment areas for any of the criteria pollutants.

Land Features: The construction of the NRI along any of the alternative routes would not impact geologic resource availability. Localized terrain changes could result from the installation of support structures, substation expansions, or establishment or upgrading of access roads. However, because of the relatively flat terrain, topographic changes to the area would be negligible. Impacts on soils from localized erosion and compaction would be negligible because BHE would employ standard mitigation measures (Section 2.4 of the EIS) to minimize soil erosion and promptly restore construction areas. As practicable, BHE would conduct most of the construction activities in sensitive areas during the winter when precipitation occurs as snowfall and the soil surface is frozen. None of the alternative routes is located in areas of relatively high seismic activity.

Land Use: All four alternative routes would cross primarily through privately-owned commercially forested land. ROW clearance and support structure installation would be the main activities that could result in impacts on land use. The length of each of the alternative routes, except the MEPCO South alternative, would be relatively similar (84 to 85 mi [135 to 137 km]). The MEPCO South Route would be 114 mi (183 km) long.

Depending upon the alternative, between 1,391 and 1,513 acres (563 and 612 ha) of forested land could be impacted by ROW land-disturbing activities. However, for any of the four alternative routes, this represents less than 0.03% of the total acreage of forested lands (both managed and unmanaged; approximately 4.3 million acres [1.7 million ha]) within the project area of Hancock, Penobscot, and Washington Counties. Although land within the ROW would be removed from commercial forest production, the presence of the NRI would not restrict the continuation of commercial forestry operations in areas adjacent to the ROW. The Previously Permitted and MEPCO South Routes require notably more new ROW, 62 mi (100 km) and 39 mi (63 km), respectively, than the Consolidated Corridors and Modified Consolidated Corridors Routes, 2 mi (3.2 km) and 15 mi (24 km), respectively. The Previously Permitted and MEPCO South Routes would also require 21 acres (8.5 ha) and 32 acres (13 ha), respectively, of clearing for new temporary access roads compared to none for the other two routes.

The presence of the ROW under any of the four alternative routes would not restrict continued land use for agriculture, except within the immediate area of a support structure due to constraints on farm equipment use. The total farm acreage removed from production would be 0.35 acre (0.14 ha) for the Modified Consolidated Corridors and Consolidated Corridors Routes, 0.29 acre (0.12 ha) for the Previously Permitted Route, and 1.32 acres (0.53 ha) for the MEPCO South Route. This represents a very small percentage of the more than 300,000 acres (120,000 ha) of farmland in the three-county area.

Recreational activities in the project area include all-terrain vehicle (ATV) use, snowmobiling, canoeing, fishing, and hunting. The Previously Permitted Route would open an estimated 19 access areas for ATV use compared to 1 for the MEPCO South route and 0 for the Modified Consolidated Corridors route. ROWs for all four alternative routes would provide increased access for hunting.

The NRI could affect residential areas either visually or through property being taken by condemnation through BHE's rights of eminent domain as a public utility. The Modified Consolidated Corridors route would not result in the taking of any dwellings. The MEPCO South route would require the taking of 10 dwellings compared to 3 for the Consolidated Corridors Route and 2 for the Previously Permitted route.

No potentially limiting land use issues were identified for the Modified Consolidated Corridors, Consolidated Corridors, or MEPCO South routes. Implementation of the Previously Permitted Route was viewed as potentially disruptive to logging operations and also would require negotiating with the State for an easement across the Machias River at the proposed location or moving the crossing 3,400 ft (1,036 m) to an existing utility corridor.

Hydrological Resources: No adverse impacts on surface water or groundwater resources would occur from any of the alternative routes. BHE would avoid placing support structures within 75 ft (23 m) from the top of stream banks (or within 25 ft [7.6 m] for the portion of the NRI that would parallel the existing 345-kV transmission line). However, support structures would be placed as close as possible to the edge of the 75-ft buffers for Atlantic salmon streams of special concern to minimize the amount of clearing required in order to maintain shade and stream temperatures. The Modified Consolidated Corridors, Consolidated Corridors, and Previously Permitted Routes would cross two designated Outstanding River Segments on the Narraguagus and Machias Rivers. BHE would place support structures farther away from these rivers to minimize visual impacts, and, because the crossing locations for these rivers are relatively open, no changes in water temperatures from clearing the ROW would be expected.

Impacts on water bodies from erosion, sedimentation, loss of stream shading, and fuel and herbicide contamination would be negligible for all four alternative routes because of the standard mitigation measures (Section 2.4 of the EIS) that BHE would employ. These measures also would mitigate potential impact to ecological resources, particularly the Atlantic salmon.

Ecological Resources: Vegetation would primarily be affected by clearing to establish and maintain the ROW, install support structures, create new temporary access roads, and install AC mitigation, as required. Forest clearing would fragment habitat by creating a new ROW through contiguous forest habitats or by expanding ROW width where the NRI would be co-located with existing utility facilities. The acreage of forest clearing for the ROW would be similar for all four routes (between 1,391 and 1,513 acres [563 and 612 ha]), as discussed above under Land Use.

Impacts to wildlife from construction and operation of the NRI would be local and affect only individual animals. Population-level impacts may not be detectable above natural population fluctuations and from fluctuations resulting from other activities in the area such as logging and hunting; but the potential exists for birds to collide with the conductors and shield wires. This could occur where the NRI crosses through areas where birds would be most likely to congregate, such as waterfowl and wading bird habitats. The acreage of waterfowl and wading bird habitats that would be crossed by the NRI would be 133 acres (54 ha) for the Modified Consolidated Corridors Route, 113 acres (45 ha) for the Consolidated Corridors Route, 93 acres (37 ha) for the Previously Permitted Route, and 148 acres (60 ha) for the MEPCO South Route.

Impacts on special status species would be similar to those described for other biota, but any impacts could affect their populations because of the species' limited distribution and/or abundance. The number of streams or waterbodies crossed that are of importance to the Federally-endangered Atlantic salmon (Salmo salar) Gulf of Maine Distinct Population Segment would be similar for all routes except the MEPCO South Route. These streams and waterbodies include: The Narraguagus River; two tributaries to Fifth Machias Lake; a tributary to Fletcher Brook; the Machias River; a tributary to Dead Stream; Lanpher Brook; Huntley Brook; and Joe Brook. The number of Atlantic salmon streams that would be crossed by the Modified Consolidated Corridors, Consolidated Corridors, Previously Permitted, and MEPCO South routes would be 37, 38, 33, and 6, respectively. Those crossed by the MEPCO South Route would be within the initial 12.2 mi (19.6 km) that are common to all four alternative routes.

Conversely, the MEPCO South Route would cross through one known area of essential habitat for the Federally-endangered bald eagle (Haliaeetus leucocephalus) and two areas of shortnose sturgeon habitat, while the other routes would not cross through or over these habitats. Potential adverse impacts from construction and maintenance of the ROW would be minimized or eliminated by the implementation of mitigation practices for special status species. For example, ball markers would be placed on the shield wires across the St. Croix River, Machias River, Narraguagus River, Great Works Stream, and Penobscot River to minimize the potential for bald eagles to collide with the wires.

By letter dated December 15, 2005, the U.S. Fish and Wildlife Service has concurred with DOE's finding that the proposed project is not likely to adversely affect the bald eagle or Atlantic salmon ¹ within the project area. This conclusion is predicated upon BHE employing a modified stream buffer vegetation maintenance program for protection of the Atlantic salmon, as discussed above under Hydrological Resources, and on conducting aerial surveys for bald eagle nests during spring 2006 and 2007.

¹ In its comments on the Draft EIS, the U.S. Fish and Wildlife Service suggested that DOE report on the completion of the Service's recovery plan for the Atlantic salmon in the Final EIS. The recovery plan had not been finalized by the time DOE published the Final EIS. The Service finalized the plan on December 20, 2005, and it is available at http://ecos.fws.gov/docs/recovery_plans/2005/051220.pdf.

A very small amount of wetland fill would be required where support structures would be located within wetlands. The number of support structures that could be located in wetlands was conservatively estimated at 73 for the Modified Consolidated Corridors Route, 62 for the Consolidated Corridors Route, 77 for the Previously Permitted Route, and 109 for the MEPCO South Route. The actual number of support structures would probably be less, as adjustments could be made during the final siting process. No more than 0.04 acre (0.02 ha) of wetlands would be filled by support structures for any of the alternative routes.

The greatest impact on wetlands would occur in areas where forested wetlands would be cleared and subsequently converted to scrub-shrub or emergent wetlands. The acreage so affected would be 70 acres (29 ha) for the Modified Consolidated Corridors Route, 53 acres (21 ha) for the Consolidated Corridors Route, 103 acres (41 ha) for the Previously Permitted Route, and 73 acres (29 ha) for the MEPCO South Route. No permanent adverse changes in wetland functions would be anticipated for any of the alternative routes. Impacts to wetlands would be mitigated by BHE conducting most of the construction activities in sensitive areas during the winter when precipitation occurs as snowfall and the soil surface is frozen. Impacts to aquatic biota would be negligible as in-stream disturbance would not occur.

Cultural Resources: No impacts on cultural resources (including archaeological sites and historic structures and features, as well as properties of significance to traditional cultures and religions, including Native American burial grounds) are expected from the Modified Consolidated Corridors Route. The Maine Historic Preservation Officer (MSHPO) has concurred in this finding. Impacts on cultural resources are possible, but unlikely, for the Consolidated Corridors and Previously Permitted Routes. Impacts on cultural resources would be more probable for the MEPCO South Route than other alternative routes because the Penobscot River drainage has been identified as an area of high potential for containing significant archaeological material. A cultural resource survey and approval of the survey results by the MSHPO would be required if the Consolidated Corridors, Previously Permitted, or MEPCO South routes were selected for the proposed project. Surveys may also be required in areas designated for new temporary access roads and some staging areas if evidence of cultural material is observed during the initial selection of these sites. No cultural resources are expected in areas where AC mitigation would be required, since those areas were previously disturbed when the M&N gas pipeline was installed.

Socioeconomics: Construction of the NRI along the Modified Consolidated Corridors, Consolidated Corridors, or the Previously Permitted Routes would create approximately 120 direct (construction) jobs and about 110 indirect (service-related) jobs. The MEPCO South Route would create approximately 150 direct jobs and 130 indirect jobs. The jobs created by the construction of the NRI would primarily benefit Hancock, Penobscot, and Washington Counties. No significant influx of population or stress to community services would be expected from construction of the NRI. No socioeconomic impacts would be expected from its operation because most jobs created would be filled by current residents.

Environmental Justice Considerations: None of the alternative routes would have a disproportionately high and adverse impact on minority or low-income populations.

Visual Resources: Visual impacts would primarily occur from the introduction of support structures and transmission line wires into the landscape, most notably in areas where more remote recreational activities occur. The NRI would be visible to more residents if constructed along the MEPCO South Route than the other alternative routes because it is close to towns and roads along the Route 2 and Route 6 corridors. The Modified Consolidated Corridors, Consolidated Corridors, and Previously Permitted routes would be within the viewshed of Outstanding River Segments on the Narraguagus and Machias Rivers, which are rivers declared by the Maine Legislature to provide irreplaceable social and economic benefits to people because of their unparalleled natural and recreational values. However, BHE would place support structures farther away from these rivers to minimize visual impacts. BHE would use similar means of mitigation at the U.S. side of the St. Croix River, which would be crossed by all four alternative routes.

Health and Safety: Potential impacts to human health and safety from the proposed NRI include exposure to electric shocks from induced currents, exposure to electromagnetic fields (EMF), and occupational risks from the construction and maintenance of the line. For all alternative routes, risks from such exposures and hazards would be very low. Compliance with industry standards by BHE for construction and operation and the implementation of AC mitigation by M&N would reduce shock hazards to negligible levels. No health effects would occur to members of the public from exposure to the low-level EMF produced by the NRI.

There would be no significant differences in potential noise impacts from any of the alternative routes. Noise levels would increase above background during construction, primarily impacting residents and recreationists close to the ROW. The number of dwellings in close proximity (within 600 ft) to the ROW are: 40 for the Modified Consolidated Corridors Route; 59 for the Consolidated Corridors Route; 39 for the Previously Permitted Route; and 131 for the MEPCO South Route. Elevated noise levels during construction would only occur during daytime. During operation, long-term noise from the corona effect on transmission lines would generally be lost in background noise.

The potential risk to people with pacemakers and the potential for radio and television interference would be negligible for all alternative routes. What little potential there is would be slightly greater for the MEPCO South Route because it has more dwellings within 100 ft (30 m) of the ROW and has more highway crossings than the other alternative routes.

The potential human health risks from herbicide usage would be negligible because BHE would adhere to regulations and implement standard mitigation practices associated with the use of these products. The potential for fatalities of, and injuries to, construction and maintenance workers would be slightly greater for the MEPCO South Route than for the other alternative routes because of its greater length, which would require more clearing and more support structures. Nevertheless, fatality risks are expected to be less than 1 fatality for all alternative routes. Nonfatal occupational injuries and illnesses for construction of the NRI are estimated to be 9.7 for the MEPCO South Route based on 140 construction workers required for construction, and 6.9 for the other alternative routes based on 100 construction workers; nonfatal injuries and illnesses during maintenance would be less than 1 per 10 full-time personnel for all alternative routes.

Cumulative Impacts: Cumulative impacts analysis in an EIS places the effects of the proposed action into a broader context that includes impacts from other past, present, and reasonably foreseeable future actions potentially affecting the same environmental resources. The potential cumulative impacts are primarily related to long-term development of land that is currently used for other activities such as commercial timber production and recreation. If multiple projects are under construction simultaneously, an increased amount of land could be used temporarily for construction lay-down and staging areas, and an increased amount of fugitive dust could be generated. The cumulative change on land use could affect natural habitats, special status species, and cultural resources, and could lead to an increase in soil erosion. The cumulative effects on human health and safety could be an increase in background EMF exposure to residents in the immediate vicinity of the NRI. No long-term cumulative health impacts are expected to occur. No disproportionately high and adverse impacts were identified for minority and low-income populations for the proposed project, and the NRI would not contribute cumulatively to any environmental justice impacts. The NRI would result in only very small incremental (cumulative) environmental impacts within east-central Maine because most of it would be constructed within commercial timber areas where impacts associated with harvesting of trees currently occur. The NRI ROW would add to various ROWs and timber clearings that currently exist in the region.

Floodplain Statement of Findings

In the EIS, DOE assessed the impacts of the NRI on floodplains. All four alternative routes for the NRI would cross a number of 100-year floodplains. Maps of the floodplains are provided in the wetland and floodplain assessment in the EIS. There would be no practical alternative to routing the NRI through wetlands or the placement of some support structures in wetlands and floodplains.

Because of the small footprint for a support structure (15 ft² [1.4 m²] per pole), and the small number of support structures that would be located in floodplains (e.g., only 13 poles within mapped 100-year floodplains for the Modified Consolidated Corridors Route), the placement of support structures in floodplains would not be expected to result in any increase in flood hazard either as a result of increased flood elevation or because of changes in the flow-carrying capacity of the floodplain. The support structures would not exacerbate flooding because they would not impede floodwater movement or reduce floodwater storage capacity. In accordance with Maine Department of Environmental Protection's Site Location Law, the NRI would not cause or increase flooding, cause a flood hazard to any structure, nor have an unreasonable effect on runoff infiltration. BHE would design, construct, and maintain substation modifications so that flooding extent and frequency of flooding to downstream waterbodies would not be increased and so that the 100-year flood elevation would not be adversely affected. Impacts on floodplain and flooding from the NRI are therefore expected to be insignificant for any alternative route and would not result in change to conditions in the floodplains, flooding, or floodplain function.

Environmentally Preferable Alternative

DOE has identified the Rescission of Presidential Permit alternative as environmentally preferable. Although this alternative would result in no international transmission line being developed and would avoid all of the impacts identified from construction, operation, and maintenance activities of the proposed transmission line, it may not necessarily result in no impacts. Because this alternative would not serve the electric reliability needs of the region, it is possible that BHE or another entity in the region may take other actions to achieve the purpose of the NRI. However, the nature of other possible actions and their associated environmental impacts are too speculative to be assessed in the EIS.

Because the Rescission of Presidential Permit alternative would not serve the public interest with respect to the electricity needs of the region, DOE has also identified the Modified Consolidated Corridors Route as the environmentally preferable alternative among the alternatives that would result in the construction of an international transmission line. This alternative was selected because, as discussed above in the Analysis of Environmental Impacts section, it would result in the lowest impacts across most resource areas compared to the other three alternative routes.

Comments Received on the Final EIS

DOE received one comment letter on the Final EIS from the EPA Region 1 in which it made suggestions in three areas: (1) Vernal Pool Mapping: That DOE provide information on classification of wetland types and the locations of vernal pools in the area of the NRI to help EPA identify options to minimize impacts that would be relevant during the Section 404 review; (2) Buffer Requirements: That DOE consider mitigation measures such as buffer requirements for wetlands and vernal pools not associated with stream corridors or standing water; and (3) Compensatory Mitigation for Habitat Loss: That DOE consider compensatory mitigation for wildlife habitat loss from ROW clearing.

Vernal Pool Mapping: DOE notes that BHE has provided detailed information on the location of vernal pools to the U.S. Army Corps of Engineers (USACE) in a letter dated December 13, 2005. (A copy of this letter has been forwarded to EPA.) Also, several project features and mitigation measures that will be employed by BHE are designed to protect wetlands in general and vernal pools and their associated wetlands in particular. Some of these measures include: Not placing permanent structures within potential vernal pools or their associated wetlands; conducting clearing during frozen conditions to the maximum extent practicable, which minimizes ground disturbance and excessive rutting in the vicinity of the pools; utilizing timber mats when the ground is not completely frozen during clearing and construction; not grubbing tree stumps to further reduce the potential for ground disturbance; and restoring to pre-clearing condition and stabilizing any areas where clearing has resulted in rutting and soil disturbance. In addition, because the ROW will remain vegetated, there should be no long-term effects on vernal pools following construction. DOE considers that the project plan and profiles, which was recently submitted to EPA, provides sufficient information to determine the nature and magnitude of wetland impacts of the NRI. Thus, DOE concludes that the implementation of these and other measures will minimize direct and indirect impacts to potential vernal pool basins during construction of the NRI, and additional classification of wetland types within the area of the proposed ROW is not necessary.

Buffer Requirements: Maintaining adequate clearance between electrical conductors and vegetation is critical to the safe and reliable operation of the NRI. The establishment of buffers to protect wetlands not associated with stream corridors (e.g., many forested wetlands and vernal pools) would require BHE to maintain the ROW with different vegetation heights for stream corridor wetlands and forested wetlands for the 85-mile length of the ROW. Mitigating the effects to forested wetlands by establishing buffers of different vegetation heights for these areas would result in a complicated ROW maintenance program. This increased complexity would increase the possibility of errors made in vegetation trimming (i.e., vegetation may be allowed to grow too high) which would reduce the reliability of the NRI. However, the entire length of the ROW will be maintained in a vegetated state, effectively providing protective areas around all wetland resources. DOE also notes that BHE's comprehensive vegetation management plan balances electrical reliability and minimizes environmental impacts to the maximum extent practicable. For these reasons, DOE concludes that it is not necessary to incorporate additional mitigation measures for non-stream corridor wetlands in this ROD. However, the USACE may choose to include additional mitigation measures as part of its Section 404 review.

Compensatory Mitigation for Habitat Loss: DOE also concludes that compensatory mitigation for wildlife habitat loss due to ROW clearing is not necessary for the following reasons. First, forested wetlands that will be affected are part of a much larger forested landscape and, therefore, are not considered unique in this part of Maine. Second, BHE has selected routes and located support structures so as to avoid or minimize filling of wetlands. As a result there is no more than 0.04 ac (0.02 ha) of permanent fill to wetlands for any of the alternative routes. This amount of permanent fill typically would not require an individual permit from the USACE under Section 404 of the Clean Water Act.

Third, while there may be temporary wetland impacts during construction, BHE will be constructing during frozen conditions and/or using timber mats in wetland areas to minimize impacts. DOE does not consider that the temporary impacts associated with construction under these conditions require further mitigation. Fourth, although BHE's vegetation maintenance of the NRI will result in permanent conversion of forested wetland habitat to emergent and/or scrub-shrub type wetland habitats, no permanent loss of functions or values is expected because the vegetated ROW will still provide wildlife habitat for a variety of species. In summary, based on the aforementioned and specifically because wetlands are being converted and are not being lost, DOE concludes that there is not a basis for requiring compensatory mitigation.

Decision

DOE has decided to amend Presidential Permit PP-89 to authorize BHE to construct, operate, maintain, and connect a 345-kV international transmission line along the Modified Consolidated Corridors Route. This action is identified as DOE's preferred alternative in the EIS. The amended permit will have a condition in it requiring BHE to implement all mitigation measures identified in the EIS (Section 2.4, Chapter 4, and Appendices E, F, and G of the EIS).

Before granting a Presidential permit, DOE also considers whether a proposed international electric transmission line would have an adverse impact on the reliability of the U.S. electric power supply system. In reaching this determination, DOE considers the operation of the electrical grid with a specified maximum amount of electric power transmitted over the proposed line.

As part of its permit amendment application, BHE submitted technical studies which demonstrated that the NRI, in combination with the existing 345-kV MEPCO line (authorized by Presidential Permit PP-43), can import up to 1,000 MW from, and export up to 400 MW to, New Brunswick without adversely impacting the reliability of the regional electrical grid. Therefore, the permit will contain an electric reliability condition that limits operation of the NRI such that the instantaneous rate of transmission (i.e., electric power) over a combination of the NRI and the PP-43 facilities may not exceed 1,000 MW in the import mode or 400 MW in the export mode.

Basis for Decision

In arriving at its decision, DOE has considered the electrical needs of the region, the lack of adverse impacts to the U.S. electric power supply system, the low potential for environmental impacts in the U.S., the nature of potential impacts of the alternatives, and public comments provided during the preparation of the EIS.

DOE has determined that the potential impacts from the Modified Consolidated Corridors Route alternative are expected to be small, as discussed above, and overall less than the expected impacts from any of the other alternatives except the Rescission of Presidential Permit alternative. DOE did not select the Rescission of Presidential Permit alternative because it would not address the need for additional transmission capacity in the region.

DOE did not select the Previously Permitted Route alternative, nominally the “no action” alternative, because it would not achieve the consolidation of linear facility corridors as preferred by the State. This alternative would also have somewhat higher, but still low, impacts compared to the Modified Consolidated Corridors Route alternative. DOE did not select the Consolidated Corridors Route alternative because it would not avoid two areas addressed by route modifications in the Modified Consolidated Corridors Route alternative. DOE did not select the MEPCO South Route alternative because it had generally the highest impacts of any of the route alternatives, while providing no offsetting benefits to justify its selection.

For the foregoing reasons, DOE has decided to amend Presidential Permit PP-89 to authorize BHE to construct, operate, maintain, and connect the NRI along the Modified Consolidated Corridors Route as defined in the EIS, but with the condition noted in the Decision section above.

Dated: December 29, 2005.
Kevin M. Kolevar,
Director, Office of Electricity Delivery and Energy Reliability.

[FR Doc. E5-8305 Filed 1-4-06; 8:45 am]

BILLING CODE 6450-01-P